FEDERAL MARITIME COMMISSION

Sunshine Act Meeting

AGENCY HOLDING THE MEETING: Federal Maritime Commission.

TIME AND DATE: May 19, 2016; 10:00 a.m.

PLACE: 800 N. Capitol Street NW., First Floor Hearing Room, Washington, DC.

STATUS: The first portion of the meeting will be held in Open Session; the second in Closed Session.

Matters To Be Considered

Open Session

1. Docket No. 16-06: Update of Existing and Addition of New User Fees

Closed Session

1. Staff Briefing on the COSCON/KL/YMUK/Hanjin/ELJSA Slot Allocation and Sailing Agreement, FMC Agreement No. 012300

2. Staff Briefing on West Coast MTO Discussion Agreement, FMC Agreement No 201143

CONTACT PERSON FOR MORE INFORMATION: Karen V. Gregory, Secretary, (202) 523 5725.

Karen V. Gregory,
Secretary.

[FR Doc. 2016-11602 Filed 5-12-16; 4:15 pm]

BILLING CODE 6731-AA-P